FEDERAL COMMUNICATIONS COMMISSION

Notice of Public Information Collection(s) Being Reviewed by the Federal Communications Commission, Comments Requested

October 21, 2004.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility and clarity of the information collected; and (d) ways to minimize the burden of the collection of information on the respondents, including the use of automated collection techniques or other forms of information technology.

DATES: Written Paperwork Reduction (PRA) comments should be submitted on or before December 27, 2004. If you anticipate that you will be submitting comments, but find it difficult to do so within the period of time allowed by this notice, you should advise the contact listed below as soon as possible.

ADDRESSES: Direct all Paperwork Reduction Act (PRA) comments to Judith B. Herman, Federal Communications Commission, Room 1-C804, 445 12th Street, SW., Washington, DC 20554 or via the Internet to Judith-B.Herman@fcc.gov.

FOR FURTHER INFORMATION CONTACT: For additional information or copies of the information collection(s), contact Judith B. Herman at 202-418-0214 or via the Internet at Judith-B.Herman@fcc.gov.

SUPPLEMENTARY INFORMATION: OMB Control Number: 3060-0798.

Title: FCC Application for Wireless Telecommunications Bureau Radio Service Authorization.

Form No.: FCC Form 601.

Type of Review: Revision of a currently approved collection.

Respondents: Business or other for-profit, not-for-profit institutions, individuals or household, and State, local or tribal government.

Number of Respondents: 250,520.

Estimated Time per Response: 1.25 hours.

Frequency of Response: On occasion reporting requirement, recordkeeping requirement, third party disclosure requirement, and other 10 years reporting requirement.

Total Annual Burden: 219,205 hours.

Total Annual Cost: $50,104,000.

Privacy Act Impact Assessment: Yes.

Needs and Uses: FCC Form 601 is a consolidated, multi-part application or “long form” for market-based licensing and site-by-site licensing in the Wireless Telecommunications Bureau's (WTB) Radio Services' Universal Licensing System (ULS).

The information is used by the Commission to determine whether the applicant is legally, technically and financially qualified to be licensed.

The Wireless Telecommunications Bureau will be making changes to FCC Form 601 based on:

(1) FCC 04-135—Adopted 6/10/2004—Released 7/29/2004.

(a) Amendment of Parts 1, 21, 73, 74 and 101 of the Commission's rules to Facilitate the Provision of Fixed and Mobile Broadband Access, Educational and Other Advanced Services in the 2150-2162 and 2500-2690 MHz Bands, WT Docket No. 03-66, RM-10586.

(b) Part 1 of the Commission's Rules—Further Competitive Bidding Procedures, WT Docket No. 03-67.

(c) Amendment of Parts 21 and 74 to Enable Multipoint Distribution Service and the Instructional Television Fixed Service Amendment of Parts 21 and 74 to Engage in Fixed Two-Way Transmissions, MM Docket no. 97-217.

(d) Amendment of Parts 21 and 74 of the Commission's Rules with Regard to Licensing in the Multipoint Distribution Service and in the Instructional Television Fixed Service for the Gulf of Mexico, WT Docket No. 02-68, RM-9718.

(e) Promoting Efficient Use of Spectrum through Elimination of Barriers to the Development of Secondary Markets, WT Docket No. 00-230.

(2) FCC 04-168—Adopted 7/8/2004—Released 8/6/2004.

(a) Improving Public Safety Communications in the 800 MHz Band, WT Docket 02-55.

(b) Consolidating the 800 and 900 MHz Industrial/Land Transportation and Business Pool Channels, ET Docket No. 00-258.

(c) Amendment of Part 2 of the Commission's Rules to Allocate Spectrum Below 3 GHz for Mobile and Fixed Services to Support the Introduction of New Advanced Wireless Services, including Third Generation Wireless Systems, RM-9498.

(d) Petition for Rule Making of the Wireless Information Networks Forum Concerning the Unlicensed Personal Communications Service, RM-10024.

(e) Petition for Rule Making of UT Starcom, Inc., concerning the Unlicensed Personal Communications Service, ET Docket No. 95-18.

(f) Amendment of Section 2.106 of the Commission's Rules to Allocate Spectrum at 2 GHz for use by the Mobile Satellite Service, ET Docket No. 95-18.

(3) FCC 04-23—Adopted 2/4/2004—Released 2/12/2004.

(a) Review of Quiet Zones Application Procedures, WT Docket No. 01-319. There is no change to the estimated average burden and number of respondents at this time as it is unknown as to how many additional respondents may partake in the changes required due to the adoptions of the above noted Report & Orders.

Federal Communications Commission.
Marlene H. Dortch,
Secretary.

[FR Doc. 04-24122 Filed 10-27-04; 8:45 am]

BILLING CODE 6712-01-P